DEPARTMENT OF STATE

[Public Notice 6574]

Correction of Information on Town Hall Meetings Preparatory to the Conference on Holocaust Era Assets Hosted by the Czech Republic in Prague June 26-30, 2009.

AGENCY: Department of State.

ACTION: Notice; correction.

SUMMARY: The Department of State published a document in the Federal Register of March 23, 2009 entitled: “Preparations for Holocaust Era Assets Conference—Town Hall Follow-up Meetings on Looted Art, Immovable Property and Holocaust Compensation Agreements.” It has become necessary to change the dates of these meetings.

FOR FURTHER INFORMATION CONTACT: Office of Holocaust Issues (EUR/OHI), Bureau of European and Eurasian Affairs, at (202) 647-8047, jones-johnsoncd@state.gov.

Correction

In the Federal Register of March 23, 2009, Volume 74, Number 54, [Notices] [Page 12173] the dates and times of the meetings should read as follows:

—May 4 at 9:45 a.m.: Looted Art.

—May 4 at 1:45 p.m.: Immovable Property.

—May 5 at 9:45 a.m.: Financial Compensation Agreements—stocktaking.

Location: Department of State, 2201 C Street, NW., Washington DC 20520. Please use entrance on 23rd Street, between C Street and D Street.

Anyone wishing to attend any of these events should register separately for each. There are space limitations. To register, send an e-mail by close of business April 30 to Ms. Jones-Johnson (Jones-JohnsonCD@state.gov) with the following information:

Full Name:

Date of Birth:

Driver's License Number, including State of Issuance, or

Alternate Government-Issued Picture ID:

Organization represented (if any), and its Address & Phone Number:

Home Address (only if attending as an individual):

Name of Event(s) to be attended:

Those who register are urged to arrive at the Department at least 15 minutes before the starting time for each event to allow time for security screening. Upon arrival, show security personnel a valid government-issued identification: For example, a U.S. state driver's license or a passport. The official address of the State Department is 2201 C Street, NW., Washington, DC 20520. For these events, however, participants must use the “23rd Street Entrance” on the west side of the State Department's Harry S. Truman Building, located on 23rd Street between C Street and D Street NW., Washington, DC.

Written submissions are welcome and should be sent to Ms. Jones-Johnson at the e-mail address cited above by close of business April 30.

Dated: April 6, 2009.
Elizabeth Nakian,
Deputy Director, Office of the Special Envoy for Holocaust Issues, Department of State.

[FR Doc. E9-8255 Filed 4-9-09; 8:45 am]

BILLING CODE 4710-23-M